DEPARTMENT OF COMMERCE

National Oceanic and Atmospheric Administration

RIN 0648-XF506

U.S. Seafood Import Monitoring Program; Public Meetings on Implementation

AGENCY: National Marine Fisheries Service (NMFS), National Oceanic and Atmospheric Administration (NOAA), Commerce.

ACTION: Notice of public meetings.

SUMMARY: NMFS will hold public meetings in the U.S. and abroad beginning in July 2017. The intent of the meetings is to discuss implementation of the U.S. Seafood Import Monitoring Program. All meetings are free of charge and open to the public.

DATES: Meetings will be held beginning July 13, 2017. See SUPPLEMENTARY INFORMATION for specific dates and times.

ADDRESSES: Meetings will be held in locations including Long Beach, CA; Seattle, WA, Elizabeth, NJ and Miami, FL. See SUPPLEMENTARY INFORMATION for specific locations.

FOR FURTHER INFORMATION CONTACT: Celeste Leroux at (202) 816-0661.

SUPPLEMENTARY INFORMATION:

Meeting Dates and Locations

Thursday, July 13, 2017, 10 a.m. to 12 p.m.

Location: Hilton Long Beach, 701 West Ocean Boulevard, Long Beach, CA 90831; telephone: (562) 983-3400; fax: (562) 983- 1200.

Tuesday, July 18, 2017, 10 a.m. to 12 p.m.

Location: DoubleTree Suites by Hilton Seattle Airport—Southcenter, 16500 Southcenter Parkway, Seattle, WA 98188; telephone: (206) 575-8220; fax: (206) 575-4743.

Thursday, July 20, 2017, 10 a.m. to 12 p.m.

Location: Renaissance Newark Airport Hotel, 1000 Spring Street, Elizabeth, NJ 07201; telephone: (908) 436-4600; fax: (908) 436-4610.

Tuesday, July 25, 2017, 10 a.m. to 12 p.m.

Location: Hilton Miami Airport, 5101 Blue Lagoon Drive, Miami, FL 33126; telephone: (305) 262-1000; fax: (305) 267-0038.

Additional public meetings in the U.S. and abroad may be added and will be announced online at least one week in advance of the meeting(s) at www.iuufishing.noaa.gov.

Agenda

All meetings will discuss facets of implementing the Seafood Import Monitoring Program, including:

• Overview of the Seafood Import Monitoring Program.

• Implementation Timeline.

• Pilot Testing in the Automated Commercial Environment (ACE) for U.S. Importers.

• Traceability Data Requirements for Reporting.

• Supply Chain Data Requirements for Recordkeeping.

• Question and Answer Session.

As part of NOAA's ongoing efforts to provide industry awareness of and support for compliance with the Seafood Import Monitoring Program's traceability data reporting and recordkeeping requirements, NMFS will hold public meetings to discuss the implementation of the U.S. Seafood Import Monitoring Program and address questions from participants.

The meetings will address issues relevant to both foreign exporters and U.S. domestic importers of seafood species whose products are covered by the Seafood Import Monitoring Program (SIMP). The mandatory compliance date for SIMP is January 1, 2018. Please note, however, that the rule has been challenged in Federal court and the resolution of that case may impact implementation of the rule, including the compliance date.

The Seafood Import Monitoring Program is the first phase of a risk-based traceability program, which establishes the reporting and recordkeeping requirements needed to prevent illegally harvested and misrepresented seafood from entering into U.S. Commerce. In the development of the SIMP rule, 13 “priority” species were identified as being most at risk for Illegal, Unreported, and Unregulated (IUU) fishing and misrepresentation, and are the only species currently subject to this program.

Importers of the 13 priority species (Abalone*, Atlantic Cod, Atlantic Blue Crab, Dolphinfish (Mahi Mahi), Grouper, Red King Crab, Pacific Cod, Red Snapper, Sea Cucumber, Sharks, Shrimp*, Swordfish, and Tunas: Albacore, Bigeye, Skipjack, Yellowfin, and Bluefin) will be required to submit harvest and landing information on those products through the International Trade Data System (ITDS) prior to entry into U.S. Commerce, and maintain supply chain records from the point of harvest to the point of entry into U.S Commerce for a period of two years after entry. *Note that the mandatory compliance date for Abalone and Shrimp has been stayed until further notice.

Information on future SIMP implementation meetings and transcripts of prior meetings and webinars can be found at: http://www.iuufishing.noaa.gov/RecommendationsandActions/RECOMMENDATION1415/FinalRuleTraceability.aspx.

Special Accommodations

The meetings are physically accessible to people with disabilities. Requests for sign language interpretation or other auxiliary aids should be directed to Celeste Leroux at (202) 816-0661 prior to the meeting.

Dated: July 3, 2017.
John Henderschedt,
Director, Office of International Affairs and Seafood Inspection, National Marine Fisheries Service.

[FR Doc. 2017-14327 Filed 7-7-17; 8:45 am]

BILLING CODE 3510-22-P